DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Hazard Mitigation Grant Program Application and Reporting.

Type of Information Collection: Extension of a currently approved collection.

OMB Number: 1660-0076.

Abstract: Grantees administer the Hazard Mitigation Grant Program, which is a post-disaster program that contributes funds toward the cost of hazard mitigation activities in order to reduce the risk of future damage, hardship, loss or suffering in any area affected by a major disaster. FEMA uses applications to provide financial assistance in the form of grant awards and, through grantee quarterly reporting, monitors grantee project activities and expenditure of funds.

Affected Public: State, local, tribal governments, and not-for-profit institutions.

Number of Respondents: 1,815.

Estimated Total Annual Burden Hours: 52,199.

Estimated Cost: $1,246,503.00. The total annual estimated costs to States and Indian tribal governments for information collections associated with the HMGP are $1,246,503. This calculation is based on the number of burden hours for the information collections and the estimated wage rates for those individuals responsible for collecting the information or completing the forms. States may use existing systems for submitting grant applications and reporting.

Frequency of Response: One-time.

Comments: Interested persons are invited to submit written comments on the proposed information collection to the OMB Desk Officer for the Federal Emergency Management Agency at e-mail address Edward_H._Clarke@omb.eop.gov. or facsimile number (202) 395-7285 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, or facsimile number (202) 646-3347, or e-mail address InformationCollections@fema.gov.

Edward W. Kernan,
Division Director, Information Resources Management Division, Information Technology Services Directorate.

[FR Doc. 03-30770 Filed 12-11-03; 8:45 am]

BILLING CODE 9110-13-P